ENVIRONMENTAL PROTECTION AGENCY

[FRL 9931-17-ORD]

Environmental Laboratory Advisory Board; Notice of Charter Renewal

AGENCY: Environmental Protection Agency (EPA).

ACTION: Notice of charter renewal.

Notice is hereby given that the Environmental Protection Agency (EPA) has determined that, in accordance with the provisions of the Federal Advisory Committee Act (FACA), 5 U.S.C. App. 2, the Environmental Laboratory Advisory Board (ELAB) is a necessary committee, which is in the public interest. Accordingly, ELAB will be renewed for an additional two-year period. The purpose of the ELAB is to provide advice and recommendations to the Administrator of EPA on issues associated with enhancing EPA's measurement programs and the systems and standards of environmental accreditation. Inquiries may be directed to Lara P. Phelps, Designated Federal Officer, U.S. Environmental Protection Agency, Office of the Science Advisor, 109 T.W. Alexander Drive (E243-05), Research Triangle Park, NC 27709 or by email: phelps.lara@epa.gov.

Dated: June 1, 2015.
Thomas A. Burke,
EPA Science Advisor, Office of Research and Development.

[FR Doc. 2015-18216 Filed 7-23-15; 8:45 am]

BILLING CODE 6560-50-P